DEPARTMENT OF THE INTERIOR

National Park Service

[NPS-WASO-NAGPRA-NPS0027256; PPWOCRADN0-PCU00RP14.R50000]

Notice of Inventory Completion: Tennessee Valley Authority, Knoxville, TN; Correction

AGENCY: National Park Service, Interior.

ACTION: Notice; correction.

SUMMARY: The Tennessee Valley Authority (TVA) has corrected an inventory of human remains and associated funerary objects published in a Notice of Inventory Completion in the Federal Register on August 22, 2017. This notice corrects the minimum number of individuals. Lineal descendants or representatives of any Indian Tribe or Native Hawaiian organization not identified in this notice that wish to request transfer of control of these human remains should submit a written request to the TVA. If no additional requestors come forward, transfer of control of the human remains to the Indian Tribes stated in this notice may proceed.

DATES: Lineal descendants or representatives of any Indian Tribe or Native Hawaiian organization not identified in this notice that wish to request transfer of control of these human remains should submit a written request with information in support of the request to at the address in this notice by April 1, 2019.

ADDRESSES: Dr. Thomas O. Maher, TVA, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the correction of an inventory of human remains under the control of the Tennessee Valley Authority, Knoxville, TN. The human remains were removed from site 1FR310 in Franklin County, AL.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals published in a Notice of Inventory Completion in the Federal Register (82 FR 39908-39909, August 22, 2017). Additional human remains from this site were discovered during improvement of the curation of the non-NAGPRA TVA archeological collection. Transfer of control of the items in this correction notice has not occurred.

Correction

In the Federal Register (82 FR 39908, August 22, 2017), column 2, paragraph 3, sentence 1, under the heading “History and Description of the Remains,” is corrected by substituting the following sentence:

From 1978 to 1979, human remains representing, at minimum, 36 individuals were removed from the Ricker site (1FR310) in Franklin County, AL, by the Alabama Museum of Natural History at the University of Alabama (AMNH).

In the Federal Register (82 FR 39908, August 22, 2017), column 3, paragraph 2, sentence 2, under the heading “Determinations Made by the Tennessee Valley Authority,” is corrected by substituting the following sentence:

Pursuant to 25 U.S.C. 3001(9), the human remains described in this notice represent the physical remains of 677 individuals of Native American ancestry.

Additional Requestors and Disposition

Lineal descendants or representatives of any Indian Tribe or Native Hawaiian organization not identified in this notice that wish to request transfer of control of these human remains should submit a written request with information in support of the request to Dr. Thomas O. Maher, TVA, 400 West Summit Hill Drive, WT11C, Knoxville, TN 37902-1401, telephone (865) 632-7458, email tomaher@tva.gov, by April 1, 2019. After that date, if no additional requestors have come forward, transfer of control of the human remains to The Chickasaw Nation may proceed.

The Tennessee Valley Authority is responsible for notifying the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma that this notice has been published.

Dated: February 1, 2019.
Melanie O'Brien,
Manager, National NAGPRA Program.

[FR Doc. 2019-03576 Filed 2-28-19; 8:45 am]

BILLING CODE 4312-52-P